DEPARTMENT OF TRANSPORTATION

Federal Aviation Administration

[Summary Notice No. PE-2001-82]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC., on October 17, 2001.
Donald P. Byrne,
Assistant Chief Counsel for Regulations.

Dispositions of Petitions

Docket No.: FAA-2001-10229.

Petitioner: GE Celma S.A.

Section of 14 CFR Affected: 14 CFR 145.47(b).

Description of Relief Sought/Disposition: To permit GE Celma to use the calibration standards of the Instituto Nacional de Mertologia, Normaliza̧co Qualidade Industrial in lieu of the calibration standards of the U.S. National Institute of Standards and Technology to test its inspection and test equipment.

Grant, 10/02/2001, Exemption No. 6546C.

Docket No.: FAA-2001-10566.

Petitioner: Montgomery Bay Chapter of the International Organization of the Ninety-Nines, Inc.

Section of 14 CFR Affected: 14 CFR 135.251, 135.255, 135.353, and appendixes I and J to part 121.

Description of Relief Sought/Disposition: To permit Montgomery Bay 99's to conduct local sightseeing flights at the Watsonville Open House in the vicinity of Aptos, California, for a Nickel a Pound airlift during October 2001, for compensation or hire, without complying with certain anti-drug and alcohol misuse prevention requirements to part 135.

Grant, 10/04/2001, Exemption No. 7633.

Docket No.: FAA-2001-10169.

Petitioner: The Boeing Company.

Section of 14 CFR Affected: 14 CFR 145.45(f).

Description of Relief Sought/Disposition: To permit Boeing to give copies of its Inspection Procedures Manual (IPM) to key individuals and make the IPM available electronically to all other employees, rather than giving a paper copy of each of its supervisory and inspection personnel.

Grant, 09/21/2001, Exemption No. 7065A.

Docket No.: FAA-2001-9713.

Petitioner: All Nippon Airways, Co., Ltd.

Section of 14 CFR Affected: 14 CFR 145.47(b).

Description of Relief Sought/Disposition: To (1) allow ANA to use the calibration standards of the National Metrology Institute of Japan in lieu of the calibration standards of the U.S. National Institute of Standards and Technology to test its inspection and test equipment.

Grant, 10/02/2001, Exemption No. 7051A.

[FR Doc. 01-26662 Filed 10-22-01; 8:45 am]

BILLING CODE 4910-13-M